DEPARTMENT OF HOMELAND SECURITY

Coast Guard

33 CFR Part 117

[Docket No. USCG-2016-0257]

Drawbridge Operation Regulation; Delaware River, Pennsauken Township, NJ

AGENCY: Coast Guard, DHS.

ACTION: Notice of temporary deviation from regulations; reopening comment period.

SUMMARY: The Coast Guard is reopening the comment period to solicit additional comments concerning its Notice of Temporary Deviation from the operating schedule that governs the DELAIR Memorial Railroad Bridge across the Delaware River, mile 104.6, at Pennsauken Township, NJ. This document is to provide additional opportunity for public comment.

DATES: The comment period for the deviation published October 18, 2017, at 82 FR 48419, is reopened. Comments and related material must reach the Coast Guard on or before March 2, 2018.

ADDRESSES: You may submit comments identified by docket number USCG-2016-0257 using Federal eRulemaking Portal at http://www.regulations.gov. See the “Public Participation and Request for Comments” portion of the SUPPLEMENTARY INFORMATION section below for instructions on submitting comments.

FOR FURTHER INFORMATION CONTACT: If you have questions on this test deviation, call or email Mr. Hal R. Pitts, Fifth Coast Guard District (dpb); telephone (757) 398-6222, email Hal.R.Pitts@uscg.mil.

SUPPLEMENTARY INFORMATION:

I. Background, Purpose and Legal Basis

On April 12, 2017, we published a document in the Federal Register entitled, “Drawbridge Operation Regulation; Delaware River, Pennsauken Township, NJ” announcing a temporary deviation from the regulations, with request for comments (see 82 FR 17562). The purpose of the deviation was to test the newly installed remote operational capabilities of the DELAIR Memorial Railroad Bridge across the Delaware River, mile 104.6, at Pennsauken Township, NJ, owned and operated by Conrail Shared Assets. The installation of the remote operation system capabilities did not change the operational schedule of the bridge.¹

¹ A full description of the remote operational system is outlined in the aforementioned publication, which can be found at http://regulations.gov. (See ADDRESSES for more information).

On June 30, 2017, we published a notice of proposed rulemaking (NPRM) entitled, “Drawbridge Operation Regulation; Delaware River, Pennsauken Township, NJ” (see 82 FR 29800). The original comment period closed on August 18, 2017.

On October 18, 2017, we published a document in the Federal Register entitled, “Drawbridge Operation Regulation; Delaware River, Pennsauken Township, NJ” announcing a temporary deviation from the regulations, with request for comments (see 82 FR 48419). This test deviation commenced at 8 a.m. on October 21, 2017, and will conclude at 7:59 a.m. on April 19, 2018. This notice included a request for comments and related material to reach the Coast Guard on or before January 15, 2018.²

² Detailed information concerning this second test deviation is contained in the Background, Purpose and Legal Basis paragraphs of the aforementioned publication, which can be found at http://regulations.gov, (see ADDRESSES for more information).

On December 6, 2017, we published a notice of proposed rulemaking; reopening of comment period (NPRM); entitled “Drawbridge Operation Regulation; Delaware River, Pennsauken Township, NJ” in the Federal Register (see 82 FR 57561). It included a request for comments and related material to reach the Coast Guard on or before January 15, 2018.

This document reopening the comment period ensures notice and opportunity to comment on the temporary deviation before we decide whether to make any changes to it. This document is issued under authority of 33 U.S.C. 1223 and 5 U.S.C. 552.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

All previously published documents mentioned in this document along with all public comments will be in our online docket at http://www.regulations.gov and can be viewed by following that website's instructions. Additionally, if you go to the online docket and sign up for email alerts, you will be notified when comments are posted or a final rule is published.

Dated: January 12, 2018.
Hal R. Pitts,
Bridge Program Manager, Fifth Coast Guard District.

[FR Doc. 2018-00894 Filed 1-19-18; 8:45 am]

BILLING CODE 9110-04-P